DEPARTMENT OF COMMERCE

National Oceanic and Atmospheric Administration

RIN 0648-XA509

Pacific Fishery Management Council; Public Meeting

AGENCY: National Marine Fisheries Service (NMFS), National Oceanic and Atmospheric Administration (NOAA), Commerce.

ACTION: Notice of A public meeting.

SUMMARY: The Pacific Fishery Management Council (Pacific Council) will hold a meeting of its Groundfish Essential Fish Habitat Review Committee (EFHRC). The meeting is open to the public.

DATES: The CPSMT meeting will be held Thursday, July 7, 2011. Business will begin 8 a.m. and conclude at 5 p.m. or until business for the day is completed.

ADDRESSES: The meeting will be held in the Large Conference Room of the Pacific Council's offices, 7700 NE Ambassador Place, Portland, OR 97220.

FOR FURTHER INFORMATION CONTACT: Kerry Griffin, Staff Officer; telephone: (503) 820-2280.

SUPPLEMENTARY INFORMATION: The purpose of the EFHRC meeting is to continue the periodic review of essential fish habitat (EFH) identification and descriptions for species managed under the Pacific Council's Groundfish Fishery Management Plan (FMP). The EFHRC will discuss data needs, interim products, and future meeting planning. Other issues relevant to the EFH review may be addressed as time permits.

Although non-emergency issues not contained in the meeting agenda may come before the EFHRC for discussion, those issues may not be the subject of formal action during this meeting. EFHRC action will be restricted to those issues specifically listed in this notice and any issues arising after publication of this notice that require emergency action under Section 305(c) of the Magnuson-Stevens Fishery Conservation and Management Act, provided the public has been notified of the EFHRC's intent to take final action to address the emergency.

Special Accommodations

This meeting is physically accessible to people with disabilities. Requests for sign language interpretation or other auxiliary aids should be directed to Ms. Carolyn Porter at (503) 820-2280 at least 5 days prior to the meeting date.

Dated: June 20, 2011.
Tracey L. Thompson,
Acting Director, Office of Sustainable Fisheries, National Marine Fisheries Service.

[FR Doc. 2011-15694 Filed 6-22-11; 8:45 am]

BILLING CODE 3510-22-P